DEPARTMENT OF COMMERCE

National Oceanic and Atmospheric Administration

Updates to List of National System of Marine Protected Areas (MPAs)

AGENCY: NOAA, Department of Commerce (DOC).

ACTION: Notice of updates to the List of National System of Marine Protected Areas (MPAs) and response to comments on nominations of existing MPAs to the national system.

SUMMARY: In August 2010, NOAA and the Department of the Interior (DOI) invited Federal, State, commonwealth, and territorial MPA programs with potentially eligible existing MPAs to nominate their sites to the national system of MPAs (national system). A total of 39 nominations were received, including seven from the American Samoa Department of Marine and Wildlife Resources and 32 from the California Department of Fish and Game. Following a 30-day public review period, no public comments were received by the National Marine Protected Areas Center (MPA Center). The American Samoa Department of Marine and Wildlife Resources and the California Department of Fish and Game, as the managing agencies, were asked to make a final determination of sites to nominate to the national system. Finding them to be eligible for the national system, the MPA Center has accepted the nominations for 39 sites and placed them on the List of National System MPAs.

The national system and the nomination process are described in the Framework for the National System of Marine Protected Areas of the United States of America (Framework), developed in response to Executive Order 13158 on Marine Protected Areas. The final Framework was published on November 19, 2008, and provides guidance for collaborative efforts among Federal, State, commonwealth, territorial, tribal and local governments and stakeholders to develop an effective and well coordinated national system that includes existing MPAs meeting national system criteria as well as new sites that may be established by managing agencies to fill key conservation gaps in important ocean areas.

FOR FURTHER INFORMATION CONTACT: Lauren Wenzel, NOAA, at 301-713-3100, ext. 136 or via e-mail at mpa.comments@noaa.gov. A detailed electronic copy of the List of National System MPAs is available for download at http://www.mpa.gov.

SUPPLEMENTARY INFORMATION:

Background on National System

The national system of MPAs is made up of member MPA sites, networks and systems established and managed by Federal, State, commonwealth, territorial, tribal and/or local governments that collectively enhance conservation of the nation's natural and cultural marine heritage and represent its diverse ecosystems and resources. Although participating sites continue to be managed independently, national system MPAs also work together at the regional and national levels to achieve common objectives for conserving the nation's important natural and cultural resources, with emphasis on achieving the priority conservation objectives of the Framework. MPAs include sites with a wide range of protection, from multiple use areas to no take reserves where all extractive uses are prohibited. The term MPA refers only to the marine portion of a site (below the mean high tide mark) that may include both terrestrial and marine components.

The national system is a mechanism to foster greater collaboration among participating MPA sites and programs in order to enhance stewardship in the waters of the United States. The act of joining the national system does not create new MPAs, or create new restrictions for the existing MPAs that become members. In fact, a site must have existing protections of natural and/or cultural resources in place in order to be eligible to join the national system, as well as meet other criteria described in the Framework. However, joining the national system does not establish new regulatory authority or change existing regulations in any way, nor does it require changes affecting the designation process or management of member MPAs. Nor does it bring State, territorial, tribal or local sites under Federal authority.

Benefits of joining the national system, which are expected to increase over time as the system matures, include a facilitated means to work with other sites in the MPA's region, and nationally on issues of common conservation concern; fostering greater public and international recognition of U.S. MPAs and the resources they protect; priority in the receipt of available technical and other support for cross-cutting needs; and the opportunity to influence federal and regional ocean conservation and management initiatives (such as Coastal and Marine Spatial Planning, integrated ocean observing systems, systematic monitoring and evaluation, targeted outreach to key user groups, and helping to identify and address MPA research needs). In addition, the national system provides a forum for coordinated regional planning about place-based conservation priorities that does not otherwise exist.

Nomination Process

The Framework describes two major focal areas for building the national system of MPAs—a nomination process to allow existing MPAs that meet the entry criteria to become part of the system and a collaborative regional gap analysis process to identify areas of significance for natural or cultural resources that may merit additional protection through existing Federal, State, commonwealth, territorial, tribal or local MPA authorities. A call for nominations is issued annually, and may also be issued at the request of an MPA management agency. This round of nominations began on August 19, 2010 and the deadline for nominations was November 19, 2010. A public comment period was held from February 3, 2011 through March 7, 2011.

There are three entry criteria for existing MPAs to join the national system, plus a fourth for cultural heritage. Sites that meet all pertinent criteria are eligible for the national system.

1. Meets the definition of an MPA as defined in the Framework.

2. Has a management plan (can be site-specific or part of a broader programmatic management plan; must have goals and objectives and call for monitoring or evaluation of those goals and objectives).

3. Contributes to at least one priority conservation objective as listed in the Framework (see below).

4. Cultural heritage MPAs must also conform to criteria for the National Register for Historic Places.

Additional sites not currently meeting the management plan criterion can be evaluated for eligibility to be nominated to the system on a case-by-case basis based on their ability to fill gaps in the national system coverage of the priority conservation objectives and design principles described in the Framework.

The MPA Center used existing information in the MPA Inventory to determine which MPAs meet the first and second criteria. The inventory is online at http://www.mpa.gov/dataanalysis/mpainventory/ and potentially eligible sites are posted online at http://www.mpa.gov/nationalsystem/nationalsystemlist/. As part of the nomination process, the managing entity for each potentially eligible site is asked to provide information on the third and fourth criteria.

Updates to List of National System MPAs

The following MPAs have been nominated by the American Samoa Department of Marine and Wildlife Resources and the California Department of Fish and Game to join the national system of MPAs. The complete List of National System MPAs, which now includes 297 members, is available at http://www.mpa.gov.

American Samoa

Alofau Village Marine Protected Area,

Amaua and Auto Village Marine Protected Area,

Fagamalo Village Marine Protected Area,

Masausi Village Marine Protected Area,

Matuu and Faganeanea Village Marine Protected Area,

Poloa Village Marine Protected Area,

Vatia Village Marine Protected Area.

California

Point Arena State Marine Conservation Area,

Sea Lion Cove State Marine Conservation Area,

Saunders Reef State Marine Conservation Area,

Del Mar Landing State Marine Reserve,

Stewarts Point State Marine Reserve,

Salt Point State Marine Conservation Area,

Gerstle Cove State Marine Reserve,

Russian River State Marine Recreational Management Area,

Russian River State Marine Conservation Area,

Bodega Head State Marine Reserve,

Bodega Head State Marine Conservation Area,

Estero Americano State Marine Recreational Management Area,

Estero de San Antonio State Marine Recreational Management Area,

Drakes Estero State Marine Conservation Area,

Estero de Limantour State Marine Reserve,

Point Reyes State Marine Reserve,

Point Reyes State Marine Conservation Area,

Duxbury State Marine Conservation Area,

Southeast Farallon Island State Marine Reserve,

Southeast Farallon Island State Marine Conservation Area,

Montara State Marine Reserve,

Pillar Point State Marine Conservation Area,

Point Reyes Special Closure,

Point Resistance Special Closure,

Double Point/Stormy Stack Special Closure,

Egg (Devil's Slide) Rock to Devil's Slide Special Closure,

North Farallon Islands & Isle of St. James Special Closure,

Southeast Farallon Special Closure A,

North Farallon Islands State Marine Reserve,

Southeast Farallon Special Closure B,

Stewarts Point State Marine Conservation Area.

Response to Public Comments

On February 3, 2011, NOAA and DOI (agencies) published the Nomination of Existing Marine Protected Areas (MPAs) to the National System of Marine Protected Areas for public comment, for the nomination of thirty-nine existing MPAs. By the end of the 30-day comment period, no public comments had been received.

Dated: March 18, 2011.
David M. Kennedy,
Assistant Administrator, National Ocean Service, National Oceanic and Atmospheric Administration.

[FR Doc. 2011-7036 Filed 3-24-11; 8:45 am]

BILLING CODE P